DEPARTMENT OF HOMELAND SECURITY

U.S. Customs and Border Protection

[1651-0064]

Agency Information Collection Activities: Importer ID Input Record

AGENCY: U.S. Customs and Border Protection, Department of Homeland Security.

ACTION: 30-Day notice and request for comments; Extension of an existing collection of information.

SUMMARY: U.S. Customs and Border Protection (CBP) of the Department of Homeland Security will be submitting the following information collection request to the Office of Management and Budget (OMB) for review and approval in accordance with the Paperwork Reduction Act: Importer ID Input Record (CBP Form 5106). CBP is proposing that this information collection be revised with a change to the burden hours, a change of the form's name to read, “Create/Update Importer Identity Form,” and a change to the information collected on Form 5106. This is a proposed revision of an information collection that was previously approved. This document is published to obtain comments from the public and affected agencies.

DATES: Written comments should be received on or before August 26, 2015 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at (202) 325-0265.

SUPPLEMENTARY INFORMATION: This proposed information collection was previously published in the Federal Register (79 FR 61091) on October 9, 2014, allowing for a 60-day comment period. CBP received 27 comment letters in response to the 60-day notice. This notice allows for an additional 30 days for public comments. This process is conducted in accordance with 5 CFR 1320.10. CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Importer ID Input Record.

OMB Number: 1651-0064.

Form Number: CBP Form 5106.

Abstract: The collection of the information on the Importer ID Input Record (CBP Form 5106) is the basis for establishing bond coverage, release and entry of merchandise, liquidation, and the issuance of bills and refunds. Each person, business firm, government agency, or other organization that intends to file an import entry shall file CBP Form 5106 with the first formal entry or request for services that will result in the issuance of a bill or a refund check upon adjustment of a cash collection. This form is also filed for the ultimate consignee for whom an entry is being made.

CBP proposes to revise the CBP Form 5106 by changing the name of this form to be clearer as to its intended purpose, and by gathering additional information about the company and its officers. This will enhance CBP's ability to make an informative assessment of risk prior to the initial importation, and will provide CBP with improved awareness regarding the company and its officers who have chosen to conduct business with CBP. CBP is also requesting that the company officers whose information will be submitted on this form have importing and financial business knowledge of the company, and that they have the legal authority to make decisions on behalf of the company.

The revised form will capture more detailed company information which is in alignment with other U.S. Government data standards and business standards. In addition to collecting information about the business structure and its officers, this detailed information will provide CBP with a greater knowledge about the company and its previous business practices. The new data elements that CBP proposes to collect are:

If you are an importer, how many entries do you plan on filing in a year?

How will the identification number be utilized?

Program Code (Indicates membership in ISA or C-TPAT)

Type of address (for mailing address)

Type of address (for physical location)

Phone Number and extension

Fax number

Email address

Web site

A brief business description.

The 6-digit North American Industry Classification System (NAICS) code for this business.

The D-U-N-S Number for the Importer.

The filer code if submitting as a broker/self-filer.

Year established

Primary Banking Institution

Certificate or Articles of Incorporation—(Locator I.D.)

Certificate or Articles of Incorporation—(Reference Number)

Business Structure/Company Officers

Company Position Title

Name

Direct Phone Number and extension

Direct Email

Social Security Number

Passport Number

Passport Country of Issuance

Passport Expiration Date

Passport Type

Broker Name

Broker Telephone Number

CBP also proposes to rename this form “Create/Update Importer Identity Form” to make the form's purpose clearer to respondents.

Based on public comments received on the 60-day Federal Register Notice (79 FR 61091) of October 9, 2014, CBP also made the following changes to the proposed, new version of Form 5106:

(1) The estimated average time to complete this form was increased from 30 minutes to 45 minutes.

(2) The Quick Response (QR) Code was placed in the upper left corner of the document to provide users with a quick link to the form on the Internet.

(3) In the Type of Action section of the form, the statement, “If a continuous bond is on file, a rider must accompany this change document” was removed because it is no longer necessary with e-Bonds.

(4) In section 1E of Form 5106 which involves CBP-Assigned numbers, the instructions were clarified to include the statement, “If you have elected to request a CBP-Assigned Number in lieu of your SSN, you must provide your SSN in Section 3J of this form.”

(5) In section 1I of Form 5106, which involves how the identification number will be utilized, a statement was added in the instructions to clarify that if the role of the party is not listed, respondents can select “Other” and then list the specific role for the party. (ex., Transportation carrier, Licensed Customs Brokerage Firm, Container Freight Station, Commercial Warehouse/Foreign Trade Zone Operator, Container Examination Station or Deliver to Party).

(6) In section 1J thru 1M (Program Codes) of Form 5106, a statement was added in the instructions to clarify that current, active participants in CBP Partnership Program(s) (C-TPAT, ISA, etc.) must provide the program code in Block 1J thru Block 1M, and the information that is contained in section 3 will not be required.

(7) In section 3, Company Information, the instructions were amended to clarify that the following fields are optional:

• In section 3C DUNS Number for the Importer;

• In section 3F Related Business Information- the IRS number is optional if this number is not available;

• In section 3J Business Structure/Beneficial Owner/Company Officers, the following fields are optional:

Social Security Number

Passport Number

Country Issuance

Expiration Date

Passport Types

Since the publication of the 60-day FRN, CBP also made the following revisions:

(1) Added an extension for all telephone numbers that are requested on the form.

(2) In section 3J, added “Beneficial Owner” to title of that section to make it now “Business Structure/Beneficial Owner/Company Officers” Also, the instructions for section 3J were amended to clarify what information is needed.

CBP Form 5106 is authorized by 19 U.S.C. 1484 and provided for by 19 CFR 24.5. The current version of this form is accessible at: http://www.cbp.gov/sites/default/files/documents/CBP%20Form%205106%20%2805-13%29.pdf. The proposed new version of this form, the public comments that were received, and a summary and response to these comments may be viewed at: http://www.cbp.gov/trade/trade_community/cbp-publishes-federal-register-notice-proposing-revisions-cbp-form-5106.

Current Actions: CBP proposes to revise the information being collected by adding data elements to CBP Form 5106. This revision will result in an increase in the estimated time to complete this form, from 15 minutes to 45 minutes, and will also increase the burden hours from 75,000 to 225,000. CBP also proposes to rename this form “Create/Update Importer Identity Form” and to make the changes described above in the “Abstract” section.

Type of Review: Revision.

Affected Public: Businesses and Individuals.

Estimated Number of Respondents: 300,000.

Estimated Time per Respondent: 45 minutes.

Estimated Total Annual Burden Hours: 225,000.

Dated: July 21, 2015.
Tracey Denning,
Agency Clearance Officer, U.S. Customs and Border Protection.

[FR Doc. 2015-18306 Filed 7-24-15; 8:45 am]

BILLING CODE 9111-14-P